NATIONAL AERONAUTICS AND SPACE ADMINISTRATION

[Notice: 18-003]

Planetary Science Advisory Committee; Meeting

AGENCY: National Aeronautics and Space Administration.

ACTION: Notice of meeting.

SUMMARY: In accordance with the Federal Advisory Committee Act, as amended, the National Aeronautics and Space Administration (NASA) announces a meeting of the Planetary Science Advisory Committee (PAC). This Committee functions in an advisory capacity to the Director, Planetary Science Division, in the NASA Science Mission Directorate. The meeting will be held for the purpose of soliciting, from the planetary science community and other persons, scientific and technical information relevant to program planning.

DATES: Wednesday, February 21, 2018, 9:00 a.m. to 5:00 p.m., Thursday, February 22, 2018, 8:30 a.m. to 5:00 p.m., and Friday, February 23, 2018, 8:30 a.m. to 5:00 p.m., Local Time.

ADDRESSES: NASA Headquarters, Room 5H41, 300 E Street SW, Washington, DC 20546.

FOR FURTHER INFORMATION CONTACT: Ms. KarShelia Henderson, Science Mission Directorate, NASA Headquarters, Washington, DC 20546, (202) 358-2355, fax (202) 358-2779, or khenderson@nasa.gov.

SUPPLEMENTARY INFORMATION: The meeting will be open to the public up to the capacity of the room. This meeting will also be available telephonically and by WebEx. You must use a touch-tone phone to participate in this meeting. Any interested person may dial the Toll Number 1-517-645-6359 or Toll Free Number 1-800-779-9966, and then the numeric passcode 3954829, followed by the # sign on all three days. Note: If dialing in, please “mute” your phone. To join via WebEx, the link is https://nasa.webex.com/; the meeting number on February 21 is 993 463 983, password is PAC@Feb21; the meeting number on February 22 is 998 765 672, password is PAC@Feb22, and the meeting number on February 23 is 993 512 979, password is PAC@Feb23.

The agenda for the meeting includes the following topics:

—Planetary Science Division Update

—Planetary Science Division Research and Analysis Program Update

Attendees will be requested to sign a register and to comply with NASA security requirements, including the presentation of a valid picture ID to Security before access to NASA Headquarters. Foreign nationals attending this meeting will be required to provide a copy of their passport and visa in addition to providing the following information no less than 10 days prior to the meeting: Full name; gender; date/place of birth; citizenship; passport information (number, country, telephone); visa information (number, type, expiration date); employer/affiliation information (name of institution, address, country, telephone); title/position of attendee to. To expedite admittance, attendees with U.S. citizens and Permanent Residents (green card holders) are requested to provide full name and citizenship status no less than 3 working days in advance by contacting Ms. KarShelia Henderson via email at khenderson@nasa.gov or by fax at (202) 358-2779. It is imperative that the meeting be held on these dates to accommodate the scheduling priorities of the key participants.

Carol J. Hamilton,
Acting Advisory Committee Management Officer, National Aeronautics and Space Administration.

[FR Doc. 2018-00957 Filed 1-19-18; 8:45 am]

BILLING CODE 7510-13-P